DEPARTMENT OF HEALTH AND HUMAN SERVICES

National Institutes of Health

National Library of Medicine; Cancellation of Meeting

Notice is hereby given of the cancellation of the PubMed Central National Advisory Committee, June 21, 2017, 2:00 p.m. to June 21, 2017, 4:00 p.m., National Library of Medicine, Building 38, 2nd Floor, The Lindberg Room, 8600 Rockville Pike, Bethesda, MD 20892 which was published on March 28, 2017, 82 FR 58, Page 15362.

Dated: June 1, 2017.
Michelle Trout,
Program Analyst, Office of Federal Advisory Committee Policy.

[FR Doc. 2017-11720 Filed 6-6-17; 8:45 am]

BILLING CODE 4140-01-P